Title 3—

The President

Proclamation 7391 of January 15, 2001

Religious Freedom Day, 2001

By the President of the United States of America

A Proclamation

Each year we commemorate the anniversary of the religious freedom statute adopted by the Virginia legislature in 1786. This statute, which reflects the wisdom and foresight of its author, Thomas Jefferson, and its cosponsor, James Madison, became the model for the First Amendment to our Constitution, and it has had enormous and far-reaching consequences for the life of our Nation.

Just a few weeks ago, we saw how much that freedom means to all of us, as we celebrated Christmas, Hanukkah, and the Eid Al-Fitr within the same week. These holidays belonging to the Christian, Jewish, and Muslim faiths were observed freely and in peace by millions of people across our country—an occurrence unimaginable in some regions of the world, where people suffer persecution and even death for worshipping according to their conscience. Because of religious freedom, Americans have been spared much of the violence, bitterness, and conflict that have scarred so many other societies, and our Nation has benefited immeasurably from the many contributions of generations of men and women who emigrated to America because their right to worship was protected by the Constitution and the courts and respected by their fellow citizens.

But religious freedom is not a right we enjoy solely by virtue of being Americans; it is a fundamental human right that should be honored in every Nation around the globe. That is why I have sought to make it an integral part of U.S. foreign policy and to raise international awareness that many countries continue to engage in or tolerate egregious violations of their citizens' right to worship. I am proud that we have expanded reporting on religious freedom in every country, and that through our Ambassador at Large for International Religious Freedom, we have strived to promote religious freedom where it is threatened or denied and to intervene on behalf of those who are suffering because of their religious beliefs and practices.

More than 2 centuries ago, our founders sought to protect the religious freedom that inherently belongs to every human being. Now the responsibility falls to our generation, not only to preserve that right, but also to work together for the day when all people can worship freely and in peace.

NOW, THEREFORE, I, WILLIAM J. CLINTON, President of the United States of America, by virtue of the authority vested in me by the Constitution and the laws of the United States, do hereby proclaim January 16, 2001, as Religious Freedom Day. I call upon the people of the United States to observe this day with appropriate ceremonies, activities, and programs, and I urge all Americans to reaffirm their devotion to the fundamental principles of religious freedom and tolerance.

IN WITNESS WHEREOF, I have hereunto set my hand this fifteenth day of January, in the year of our Lord two thousand one, and of the Independence of the United States of America the two hundred and twenty-fifth.

[FR Doc. 01-1908

Filed 1-18-01; 9:12 am]

Billing code 3195-01-P